DEPARTMENT OF THE TREASURY

Community Development Financial Institutions (CDFI) Fund

Funding Opportunity Title: Notice of Funds Availability (NOFA) inviting applications for the FY 2009 funding round of the Native American CDFI Assistance (NACA) Program.

Announcement Type: Initial announcement of funding opportunity.

Catalog of Federal Domestic Assistance (CFDA) Number: 21.020

DATES: Application deadlines for the FY 2009 funding round of the NACA Program (hereafter, the FY 2009 Funding Round) are as follows: (i) If you wish to apply for Financial Assistance (FA) and/or Technical Assistance (TA) funding, your funding application must be received by midnight, Eastern Time (ET), Friday, December 19, 2008; and (ii) if you wish to apply for CDFI certification, your certification application must be received by midnight, ET, Monday, November 3, 2008.

Table 1—FY 2009 NACA Program Deadlines
[All midnight, ET deadlines]
Application type | Application deadline | Last date to contact fund staff
Native CDFI Certification Application | Monday, November 3, 2008 | Wednesday, October 29, 2008.
NACA Program Funding Application | Friday, December 19, 2008 | Wednesday, December 17, 2008.

Executive Summary: Subject to funding availability, this NOFA is issued in connection with the FY 2009 funding round of the NACA Program.

I. Funding Opportunity Description

A. Through the NACA Program, the CDFI Fund provides: (i) FA awards to CDFIs that have at least 50 percent of their activities directed toward serving Native American, Alaskan Native and/or Native Hawaiian Communities (Native CDFIs) that have Comprehensive Business Plans for creating demonstrable community development impact through the deployment of credit, capital, and financial services within their respective Target Markets or the expansion into new Investment Areas, Low-Income Targeted Populations, or Other Targeted Populations, and (ii) TA grants to Native CDFIs, entities proposing to become Native CDFIs, and to Native organizations, Tribes and Tribal organizations that propose to create Native CDFIs (Sponsoring Entities), in order to build the Native CDFIs' capacity to better address the community development and capital access needs of their existing or proposed Target Markets and/or to become certified Native CDFIs.

B. The regulations governing the CDFI Program are found at 12 CFR Part 1805 (the Regulations) and provide guidance on evaluation criteria and other requirements of the NACA Program. The Fund encourages Applicants to review the Regulations. Detailed application content requirements are found in the applicable funding application and related guidance materials. Each capitalized term in this NOFA is more fully defined in the Regulations, the application or the guidance materials.

C. The Fund reserves the right to fund, in whole or in part, any, all, or none of the applications submitted in response to this NOFA. The Fund reserves the right to re-allocate funds from the amount that is anticipated to be available under this NOFA to other Fund programs, particularly if the Fund determines that the number of awards made under this NOFA is fewer than projected.

II. Award Information

A. Funding Availability

1. FY 2009 Funding Round: Through this NOFA, and subject to funding availability, the Fund expects that it may award approximately $8 million in appropriated funds. The Fund reserves the right to award in excess of $8 million in appropriated funds to Applicants in the FY 2009 Funding Round, provided that the funds are available and the Fund deems it appropriate.

2. Availability of Funds for the FY 2009 Funding Round of the NACA Program: Funds for the FY 2009 Funding Round have not yet been appropriated. If funds are not appropriated for the FY 2009 Funding Round, there will not be a FY 2009 Funding Round. Further, it is possible that if funds are appropriated for the FY 2009 Funding Round, the amount of such funds may be greater than or less than the amounts set forth above. Further, if funds for the FY 2009 Funding Round are not appropriated, entities that are eligible to apply for CDFI Program funds and that might otherwise have applied for NACA Program funds, are encouraged to apply for CDFI Program funds through the FY 2009 Funding Round.

B. Types of Awards

An Applicant may submit an application either for: (i) A FA-only award; (ii) a FA award and a TA grant; or (iii) a TA-only grant.

1. FA Awards: FA is intended to provide flexible financial support to Native CDFIs so that they may achieve the strategies outlined in their Comprehensive Business Plans. FA awards can be used in the following four categories: (i) Financial Products, (ii) Loan Loss Reserves, (iii) Capital Reserves, and/or (iv) Operations. For purposes of this NOFA, Financial Products means loans, grants, equity investments and similar financing activities, including the purchase of loans originated by certified Native CDFIs and the provision of loan guarantees, in the Applicant's Target Market, or for related purposes that the Fund deems appropriate. Loan Loss Reserves means funds that the Applicant will set aside in the form of cash, or through accounting-based accrual, reserves to cover losses on loans, accounts and notes receivable made in its Target Market, or for related purposes that the Fund deems appropriate. Capital Reserves means funds that the Applicant will set aside in the form of reserves to support the Applicant's ability to leverage other capital, for such purposes as increasing its net assets or serving the financing needs of its Target Market, or for related purposes that the Fund deems appropriate. Operations means: funds that the Applicant will use to undertake Development Services, Financial Services, and/or for related purposes that the Fund deems appropriate. FA awards are most commonly used for an Applicant's Financial Products since FA funds can be used to support the Applicant's community development lending activities.

The Fund may provide FA awards in the form of equity investments (including, in the case of certain Insured Credit Unions, secondary capital accounts), grants, loans, deposits, credit union shares, or any combination thereof. The Fund reserves the right, in its sole discretion, to provide a FA award in a form and amount other than that which the Applicant requests; however, the award amount will not exceed the Applicant's award request as stated in its application. The Fund reserves the right, in its sole discretion, to provide a FA award to a NACA Program Applicant on the condition that the Applicant agrees to use a TA grant for specified capacity building purposes, even if the Applicant has not requested a TA grant.

2. TA Grants:

(a) The Fund provides TA awards in the form of grants. The Fund reserves the right, in its sole discretion, to provide a TA grant for uses and amounts other than that which the Applicant requests; however, the award amount will not exceed the Applicant's award request as stated in its application and the applicable budget chart.

(b) TA grants may be used to address a variety of needs including, but not limited to, development of strategic planning documents (such as strategic or capitalization plans), market analyses or product feasibility analyses, operational policies and procedures, curricula for Development Services (such as entrepreneurial training, home buyer education, financial education or training, borrower credit repair training), improvement of underwriting and portfolio management, development of outreach and training strategies to enhance product delivery, operating support to expand into a new eligible market, and tools that allow the Applicant to assess the impact of its activities in its community.

(c) Eligible TA grant uses include, but are not limited to: (i) Procuring professional services; (ii) acquiring/enhancing technology items, including computer hardware, software and Internet connectivity and related MIS; (iii) acquiring training for staff, management and/or board members; and (iv) paying recurring expenses, including staff salary and other key operating expenses, that will enhance the capacity of the Applicant to serve its Target Market and/or to become certified as a Native CDFI or to create a Native CDFI.

C. Notice of Award; Assistance Agreement

Each Awardee under this NOFA must sign a Notice of Award and an Assistance Agreement in order to receive a disbursement of award proceeds by the Fund. The Notice of Award and the Assistance Agreement contain the terms and conditions of the award. For further information, see Sections VI.A and VI.B of this NOFA.

III. Eligibility Information

A. Eligible Applicants

The Regulations specify the eligibility requirements that each Applicant must meet in order to be eligible to apply for assistance under this NOFA. The following sets forth additional detail and dates that relate to the submission of applications under this NOFA:

1. FA Applicant Categories: All Applicants for FA awards through this NOFA must meet the criteria below:

Table 2—FA Applicant Criteria
FA applicant category | Applicant criteria | Applicant may apply for: | Application deadline
Native CDFI | A Certified/Certifiable Native CDFI that meets all other eligibility requirements described in this NOFA | Up to and including $500,000 in FA funds, and up to $150,000 in TA funds | Midnight, ET, Friday, December 19, 2008.

Please note: (1) The Fund reserves the right, in its sole discretion, to award amounts in excess of or less than the anticipated maximum award amounts permitted in this NOFA, if the Fund deems it appropriate. (2) The term “Native Initiatives Funding Programs” refers to the Native American CDFI Assistance (NACA) Program and all prior funding programs, through which funds are no longer available, including the Native American CDFI Technical Assistance (NACTA) Component of the CDFI Program, the Native American CDFI Development (NACD) Program, and the Native American Technical Assistance (NATA) Component of the CDFI Program.

2. TA Applicants: All Applicants for TA grants through this NOFA must meet the following criteria:

Table 3—TA Applicant Criteria
Applicant type | Criteria of applicant | Applicant can apply for: | Application due date
TA-Only | A Certified Native CDFI, a Certifiable Native CDFI, an Emerging Native CDFI, or a Sponsoring Entity | Up to $150,000 for capacity-building activities | TA-only: Midnight, ET, Friday, December 19, 2008.
FA/TA | A Certified Native CDFI, or a Certifiable Native CDFI | Up to $150,000 in TA for capacity-building activities | FA/TA: Midnight, ET, Friday, December 19, 2008.

The Fund, in its sole discretion, reserves the right to award amounts less than the anticipated maximum award amounts permitted in this NOFA, if the Fund deems it appropriate.

3. Native CDFI Certification Requirements: For purposes of this NOFA, eligible FA Applicants include Certified Native CDFIs and Certifiable Native CDFIs; eligible TA Applicants include Certified Native CDFIs, Certifiable Native CDFIs, Emerging Native CDFIs, and Sponsoring Entities defined as follows:

(a) Certified Native CDFIs: A Certified Native CDFI whose certification has not expired and that has not been notified by the Fund that its certification has been terminated. Each such Applicant must submit a “Certification of Material Event Form” to the Fund not later than the Certification Application deadline stated in Table 1 of this NOFA, or such other dates as the Fund may proscribe, in accordance with the instructions on the Fund's Web site at http://www.cdfifund.gov. Please note: The Fund provided some Native CDFIs with written notification that their certifications had been extended. The Fund will consider the extended certification date (the later date) to determine whether those Native CDFIs meet this eligibility requirement.

(b) Certifiable Native CDFIs: For purposes of this NOFA, a Certifiable Native CDFI is an entity from which the Fund receives a complete CDFI Certification Application no later than the Certification Application deadline stated in Table 1 of this NOFA, or such other dates as the Fund may proscribe, evidencing that the Applicant meets the requirements to be certified as a Native CDFI. Applicants may obtain the CDFI Certification Application through the Fund's Web site at http://www.cdfifund.gov. Applications for certification must be submitted as instructed in the application form.

Please note: FA Applicants that are Certifiable Native CDFIs: While your organization may be conditionally selected for funding (as evidenced through the Notice of Award), the Fund will not enter into an Assistance Agreement or disburse award funds unless and until the Fund has certified your organization as a Native CDFI. If the Fund is unable to certify your organization as a Native CDFI based on the CDFI certification application that your organization submits to the Fund, the Notice of Award may be terminated and the award commitment may be cancelled, in the sole discretion of the Fund.

(c) Emerging Native CDFIs: For purposes of this NOFA, an Emerging Native CDFI is an entity that demonstrates to the Fund's satisfaction that it has a reasonable plan to be certified as a Native CDFI by December 31, 2012 or such other date selected by the Fund. Emerging Native CDFIs may only apply for TA grants; they are not eligible to apply for FA awards. Each Emerging Native CDFI that is selected to receive a TA grant will be required, pursuant to its Assistance Agreement with the Fund, to become certified as a Native CDFI by a certain date.

(d) Sponsoring Entities: For the purposes of this NOFA, a Sponsoring Entity is an entity that proposes to create a separate legal entity that will become a certified Native CDFI. For purposes of this NOFA, Sponsoring Entities include: (a) A Tribe, Tribal entity, Alaska Native Village, Village Corporation, Regional Corporation, Non-Profit Regional Corporation/Association, or Inter-Tribal or Inter-Village organization; (b) an organization whose primary mission is to serve a Native Community including, but not limited to an Urban Indian Center, Tribally Controlled Community College, community development corporation (CDC), training or education organization, or Chamber of Commerce, and that primarily serves (meaning, at least 50 percent of its activities are directed toward serving) a Native Community. Sponsoring Entities may only apply for TA grants; they are not eligible to apply for FA awards. Each Sponsoring Entity that is selected to receive a TA grant will be required, pursuant to its Assistance Agreement with the Fund, to create a legal entity by a certain date that will, in turn, seek Native CDFI certification and to transfer available award funds to that Native CDFI upon certification.

4. Limitation on Awards: An Applicant may receive only one award through the NACA Program in the FY 2009 Funding Round. No Applicant may receive a BEA Program award if it has a NACA Program and a BEA Program application pending in the same funding round (subject to certain limitations; refer to the Regulations at 12 CFR 1805.102). A NACA Program Applicant, its Subsidiaries or Affiliates also may apply for and receive a tax credit allocation through the NMTC Program, but only to the extent that the activities approved for NACA Program awards are different from those activities for which the Applicant receives a NMTC Program allocation.

5. Contacting the Fund. The Fund will respond to questions and provide support concerning CDFI certification related to the FY 2009 Funding Round between the hours of 9 a.m. and 5 p.m. ET, through the date that is three business days before the certification application deadline. The CDFI Certification Application and other information regarding CDFI certification may be obtained from the Fund's Web site at http://www.cdfifund.gov.

B. Prior Awardees: Applicants must be aware that success in a prior round of any of the Fund's programs is not indicative of success under this NOFA. For purposes of this section, the Fund will consider an Affiliate to be any entity that meets the definition of Affiliate in the Regulations. Prior awardees are eligible to apply under this NOFA, except as follows:

1. $5 Million Funding Cap: The Fund is generally prohibited from obligating more than $5 million in assistance, in the aggregate, to any one organization and its Subsidiaries and Affiliates during any three-year period. In general, the three-year period extends back three years from the date that the Fund signs a Notice of Award; for purposes of this NOFA, and for ease of administration, the Fund will consider any assistance documented with a Notice of Award dated between July 31, 2006 and July 31, 2009 (which is the anticipated date that the Fund will issue Notices of Award for the FY 2009 Funding Round).

2. Failure to meet reporting requirements: The Fund will not consider an application submitted by an Applicant if the Applicant, or an Affiliate of the Applicant is a prior Fund Awardee or allocatee under any Fund program and is not current on the reporting requirements set forth in a previously executed assistance, allocation or award agreement(s), as of the applicable application deadline of this NOFA. Please note that the Fund only acknowledges the receipt of reports that are complete. As such, incomplete reports or reports that are deficient of required elements will not be recognized as having been received.

3. Pending resolution of noncompliance: If an Applicant is a prior Awardee or allocatee under any Fund program and if: (i) It has submitted complete and timely reports to the Fund that demonstrate noncompliance with a previous assistance, allocation or award agreement; and (ii) the Fund has yet to make a final determination as to whether the entity is in default of its previous assistance, allocation or award agreement, the Fund will consider the Applicant's application under this NOFA pending full resolution, in the sole determination of the Fund, of the noncompliance. Further, if an Affiliate of the Applicant is a prior Fund Awardee or allocatee and if such entity: (i) Has submitted complete and timely reports to the Fund that demonstrate noncompliance with a previous assistance, allocation or award agreement; and (ii) the Fund has yet to make a final determination as to whether the entity is in default of its previous assistance, allocation, or award agreement, the Fund will consider the Applicant's application under this NOFA pending full resolution, in the sole determination of the Fund, of the noncompliance.

4. Default status: The Fund will not consider an application submitted by an Applicant that is a prior Fund Awardee or allocatee under any Fund program if, as of the applicable application deadline of this NOFA, the Fund has made a final determination that such Applicant is in default of a previously executed assistance, allocation or award agreement(s). Further, an entity is not eligible to apply for an award pursuant to this NOFA if, as of the applicable application deadline of this NOFA, the Fund has made a final determination that an Affiliate of the Applicant is a prior Fund Awardee or allocatee under any Fund program and has been determined by the Fund to be in default of a previously executed assistance, allocation or award agreement(s). Such entities will be ineligible to apply for an award pursuant to this NOFA so long as the Applicant's, or its Affiliate's, prior award or allocation remains in default status or such other time period as specified by the Fund in writing.

5. Termination in default: The Fund will not consider an application submitted by an Applicant that is a prior Fund Awardee or allocatee under any Fund program if: (i) Within the 12-month period prior to the applicable application deadline of this NOFA, the Fund has made a final determination that such Applicant's prior award or allocation terminated in default of a previously executed assistance, allocation or award agreement(s); and (ii) the final reporting period end date for the applicable terminated assistance, allocation or award agreement(s) falls within the 12-month period prior to the application deadline of this NOFA. Further, an entity is not eligible to apply for an award pursuant to this NOFA if: (i) Within the 12-month period prior to the applicable application deadline, the Fund has made a final determination that an Affiliate of the Applicant is a prior Fund Awardee or allocatee under any Fund program whose award or allocation terminated in default of a previously executed assistance, allocation or award agreement(s); and (ii) the final reporting period end date for the applicable terminated assistance, allocation or award agreement(s) falls within the 12-month period prior to the application deadline of this NOFA.

6. Undisbursed award funds: The Fund will not consider an application submitted by an Applicant that is a prior Fund Awardee under any Fund program if the Applicant has a balance of undisbursed award funds (defined below) under said prior award(s), as of the applicable application deadline of this NOFA. Further, an entity is not eligible to apply for an award pursuant to this NOFA if an Affiliate of the Applicant is a prior Fund Awardee under any Fund program, and has a balance of undisbursed award funds under said prior award(s), as of the applicable application deadline of this NOFA. In a case where another entity that Controls the Applicant is Controlled by the Applicant or shares common management officials with the Applicant (as determined by the Fund), is a prior Fund Awardee under any Fund program, and has a balance of undisbursed award funds under said prior award(s), as of the applicable application deadline of this NOFA, the Fund will include the combined awards of the Applicant and such Affiliated entities when calculating the amount of undisbursed award funds.

For purposes of the calculation of undisbursed award funds for the BEA Program, only awards made to the Applicant (and any Affiliates) three to five calendar years prior to the end of the calendar year of the application deadline of this NOFA are included (`includable BEA awards'). Thus, for purposes of this NOFA, undisbursed BEA Program award funds are the amount of FY 2004, 2005 and 2006 awards that remain undisbursed as of the application deadline of this NOFA.

For purposes of the calculation of undisbursed award funds for the CDFI Program and the Native Initiatives Funding Programs, only awards made to the Applicant (and any Affiliates) two to five calendar years prior to the end of the calendar year of this NOFA are included (`includable CDFI/NI awards'). Thus, for purposes of this NOFA, undisbursed CDFI Program and NI awards are the amount of FY 2004, 2005, 2006 and 2007 awards that remain undisbursed as of the application deadline of this NOFA.

To calculate total includable BEA/CDFI/NI awards: Amounts that are undisbursed as of the application deadline of this NOFA cannot exceed five percent (5%) of the total includable awards. Please refer to an example of this calculation on the Fund's Web site, found in the Q&A document for the FY 2009 Funding Round.

The “undisbursed award funds” calculation does not include: (i) Tax credit allocation authority made available through the New Markets Tax Credit (NMTC) Program; (ii) any award funds for which the Fund received a full and complete disbursement request from the Awardee by the applicable application deadline of this NOFA; (iii) any award funds for an award that has been terminated in writing by the Fund or deobligated by the Fund; or (iv) any award funds for an award that does not have a fully executed assistance or award agreement. The Fund strongly encourages Applicants requesting disbursements of “undisbursed funds” from prior awards to provide the Fund with a complete disbursement request at least 10 business days prior to the application deadline of this NOFA. An Applicant that is unsure about the disbursement status of any prior award should contact the Fund's Financial Manager via email at CDFI.disburseinquiries@cdfi.treas.gov for more information, no less than thirty (30) calendar days prior to the funding application deadline of this NOFA. Requests submitted less than thirty calendar days prior to the application deadline may not receive a response before the application deadline.

7. Contact the Fund. Applicants that are prior Fund Awardees are advised to: (i) Comply with requirements specified in assistance, allocation and/or award agreement(s), and (ii) contact the Fund to ensure that all necessary actions are underway for the disbursement or deobligation of any outstanding balance of said prior award(s). Disbursement questions should be directed to Grants Management via e-mail to grantsmanagement@cdfi.treas.gov. Reporting and compliance questions should be directed to Compliance, Monitoring and Evaluation (CME) at (202) 622-6330 or by email to cme@cdfi.treas.gov. Telephone calls to Grants Management and Financial Management should be directed to (202) 622-8226; facsimiles to (202) 622-7754; and mail to CDFI Fund, 601 13th Street, NW., Suite 200 South, Washington, DC 20005. The Fund will respond to Applicants' reporting, disbursement or compliance questions between the hours of 9 a.m. and 5 p.m. ET, starting the date of the publication of this NOFA through the date that is two business days before the applicable funding application deadline. The Fund will not respond to Applicants' reporting, disbursement or compliance phone calls or e-mail inquiries that are received after 5 p.m. ET on said date, until after the funding application deadline.

C. Matching Funds

1. Matching Funds Requirements in General: Applicants responding to this NOFA must obtain non-Federal matching funds from sources other than the Federal government on the basis of not less than one dollar for each dollar of FA funds provided by the Fund (matching funds are not required for TA grants). Matching funds must be at least comparable in form and value to the FA award provided by the Fund (for example, if an Applicant is requesting a FA grant from the Fund, the Applicant must have evidence that it has obtained matching funds through grant(s) from non-Federal sources that are at least equal to the amount requested from the Fund). Funds used by an Applicant as matching funds for a prior FA award under the NACA Program or under another Federal grant or award program cannot be used to satisfy the matching funds requirement of this NOFA. If an Applicant seeks to use as matching funds monies received from an organization that was a prior Awardee under the NACA Program, the Fund will deem such funds to be Federal funds, unless the funding entity establishes to the reasonable satisfaction of the Fund that such funds do not consist, in whole or in part, of NACA Program funds or other Federal funds. For the purposes of this NOFA, BEA Program awards are not deemed to be Federal funds and are eligible as matching funds. The Fund encourages Applicants to review the Regulations at 12 CFR 1805.500 et seq. and matching funds guidance materials on the Fund's Web site for further information.

2. Matching Funds Requirements per Applicant Category: Due to funding constraints and the desire to quickly deploy Fund dollars, the Fund will not consider for a FA award any Applicant that has no matching funds in-hand or firmly committed as of the application deadline of this NOFA. Specifically, FA Applicants must meet the following matching funds requirements: An Applicant for a FA award must demonstrate that it has eligible matching funds equal to no less than 25 percent of the amount of the FA award requested in-hand or firmly committed, on or after January 1, 2007 and on or before the application deadline. The Fund reserves the right to rescind all or a portion of a FA award and re-allocate the rescinded award amount to other qualified Applicant(s), if an Applicant fails to obtain in-hand 100 percent of the required matching funds by March 14, 2010 (with required documentation of such receipt received by the Fund not later than March 31, 2010), or to grant an extension of such matching funds deadline for specific Applicants selected to receive FA, if the Fund deems it appropriate. For any Applicant that demonstrates that it has less than 100 percent of matching funds in-hand or firmly committed as of the application deadline, the Fund will evaluate the Applicant's ability to raise the remaining matching funds by March 14, 2010.

3. Matching Funds Terms Defined; Required Documentation. (a) “Matching funds in-hand” means that the Applicant has actually received the matching funds. If the matching funds are “in-hand,” the Applicant must provide the Fund with acceptable written documentation of the source, form and amount of the Matching Funds (i.e., grant, loan, deposit, and equity investment). For a loan, the Applicant must provide the Fund with a copy of the loan agreement and promissory note. For a grant, the Applicant must provide the Fund with a copy of the grant letter or agreement for all grants of $50,000 or more. For an equity investment, the Applicant must provide the Fund with a copy of the stock certificate and any related shareholder agreement. Further, if the matching funds are “in-hand,” the Applicant must provide the Fund with acceptable documentation that evidences its receipt of the matching funds proceeds, such as a copy of a check or a wire transfer statement.

(b) “Firmly committed matching funds” means that the Applicant has entered into or received a legally binding commitment from the matching funds source that the matching funds will be disbursed to the Applicant. If the matching funds are “firmly committed,” the Applicant must provide the Fund with acceptable written documentation to evidence the source, form, and amount of the firm commitment (and, in the case of a loan, the terms thereof), as well as the anticipated date of disbursement of the committed funds.

(c) The Fund may contact the matching funds source to discuss the matching funds and the documentation provided by the Awardee. If the Fund determines that any portion of the Applicant's matching funds is ineligible under this NOFA, the Fund, in its sole discretion, may permit the Applicant to offer alternative matching funds as substitute for the ineligible matching funds; provided, however, that (i) the Applicant must provide acceptable alternative matching funds documentation within 2 business days of the Fund's request and (ii) the alternative matching funds documentation cannot increase the total amount of Financial Assistance requested by the Applicant.

4. Special Rule for Insured Credit Unions. Please note that the Regulations allow an Insured Credit Union to use retained earnings to serve as matching funds for a FA grant in an amount equal to: (i) The increase in retained earnings that have occurred over the Applicant's most recent fiscal year; (ii) the annual average of such increases that have occurred over the Applicant's three most recent fiscal years; or (iii) the entire retained earnings that have been accumulated since the inception of the Applicant or such other financial measure as may be specified by the Fund. For purposes of this NOFA, if option (iii) is used, the Applicant must increase its member and/or non-member shares or total loans outstanding by an amount that is equal to the amount of retained earnings that is committed as matching funds. This amount must be raised by the end of the Awardee's second performance period, as set forth in its Assistance Agreement, and will be based on amounts reported in the Applicant's Audited or Reviewed Financial Statements or NCUA Form 5300 Call Report. The Fund will assess the likelihood of this increase during the application review process. An award will not be made to any Applicant that has not demonstrated that it has increased shares or loans by at least 25 percent of the requested FA award amount between December 31, 2007 and December 31, 2008, as demonstrated by the corresponding NCUA report.

IV. Application and Submission Information

A. Form of Application Submission

Applicants may submit applications under this NOFA only electronically, through Grants.gov. Applications sent by mail, facsimile or other form will not be accepted, except in circumstances that the Fund, in its sole discretion, deems acceptable.

B. Grants.gov

For the FY 2009 Funding Round, in compliance with Public Law 106-107 and Section 5(a) of the Federal Financial Assistance Management Improvement Act of 1999, the Fund is accepting applications submitted through the Grants.gov electronic system. The Fund has posted to its Web site at http://www.cdfifund.gov instructions for accessing and submitting an application through Grants.gov. Applicants are encouraged to start the registration process now at www.Grants.gov as the process may take several weeks to fully complete. See the following link for information on getting started on Grants.gov: http://grants.gov/assets/GrantsgovCoBrandBrochure8X11.pdf.

C. Application Content Requirements

Detailed application content requirements are found in the application and guidance. Please note that, pursuant to OMB guidance (68 FR 38402), each Applicant must provide, as part of its application submission, a Dun and Bradstreet Data Universal Numbering System (DUNS) number. In addition, each application must include a valid and current Employer Identification Number (EIN), with a letter or other documentation from the Internal Revenue Service (IRS) confirming the Applicant's EIN. An electronic application that does not include an EIN is incomplete and cannot be transmitted to the Fund. Applicants should allow sufficient time for the IRS and/or Dun and Bradstreet to respond to inquiries and/or requests for identification numbers. Once an application is submitted, the Applicant will not be allowed to change any element of the application. The preceding sentence does not limit the Fund's ability to contact an Applicant for the purpose of obtaining clarifying or confirming application information (such as a DUNS number or EIN information).

D. MyCDFIFund Accounts

All Applicants must register User and Organization accounts in myCDFIFund, the Fund's Internet-based interface. An Applicant must be registered as both a User and an Organization in myCDFIFund as of the applicable application deadline in order to be considered to have submitted a complete application. As myCDFIFund is the Fund's primary means of communication with Applicants and Awardees, organizations must make sure that they update the contact information in their myCDFIFund accounts before the applicable application deadline. For more information on myCDFIFund, please see the “Frequently Asked Questions” link posted at https://www.cdfifund.gov/myCDFI/Help/Help.asp.

E. Application Deadlines

Applicants must submit all materials described in and required by the application by the applicable deadline.

1. Application Deadlines: Applications must be received in accordance with this NOFA by the following deadlines:

Table 4—FY 2009 CDFI Program Deadlines
[All Midnight, ET deadlines]
Application type | Application deadline | Last date to contact fund staff
Native CDFI Certification Application | Monday, November 3, 2008 | Wednesday, October 29, 2008.
NACA Program Funding Application | Friday, December 19, 2008 | Wednesday, December 17, 2008.

All funding applications must be electronic and submitted through Grants.gov: No paper submittals or attachments will be accepted (please see the CDFI Certification Application for requirements specific to that application).

2. Late Delivery: The Fund will neither accept a late application nor any portion of an application that is late; an application that is late, or for which any portion is late, will be rejected. The Fund will not grant exceptions or waivers. Any application that is deemed ineligible will not be returned to the Applicant.

F. Intergovernmental Review

Not applicable.

G. Funding Restrictions

For allowable uses of FA proceeds, please see the Regulations at 12 CFR 1805.301.

V. Application Review Information

A. Format

Funding applications must be single-spaced and use a 12-point font with 1-inch margins. Each section in the Application that is scored has page limitations. Applicants are encouraged to read each section carefully and to remain within the page limitations for each section. The Fund will not consider responses beyond the specified page limitation in each section. Also, the Fund will read only information requested in the Application and will not read attachments that have not been specifically requested in this NOFA or the Application, such as the Applicant's five-year strategic or marketing plans.

B. Criteria

The Fund will evaluate each application on a 100-point scale using numeric scores with respect to the five sections required in the Application. The Fund will score each section as follows:

Table 5—Application Scoring Criteria
Application sections | Scoring points
Market Analysis | 25
Business Strategy | 25
Community Development Performance & Effective Use | 20
Management | 20
Financial Health & Viability | 10

C. Technical Assistance Proposal

Any Applicant applying for a TA grant, either alone or in conjunction with a request for a FA award, must complete a Technical Assistance Proposal (TAP) as part of its application. The TAP consists of a summary of the organizational improvements needed to achieve the objectives of the Comprehensive Business Plan, a budget, and a description of the requested goods and/or services comprising the TA award request. The budget and accompanying narrative will be evaluated for the eligibility and appropriateness of the proposed uses of the TA award (described above). In addition, if the Applicant identifies a capacity-building need related to any of the evaluation criteria above (for example, if the Applicant requires a market need analysis or a community development impact tracking/reporting system), the Fund will assess its plan to use the TA grant to address said needs.

1. Non-Certified Applicants: An Applicant that is not a Certified Native CDFI and that requests TA to address certification requirements must explain how the requested TA grant will assist the Applicant in meeting the certification requirements. The Fund will assess the reasonableness of the plan to become certified (as specified above in Section III, Eligibility Requirements; A.3. CDFI Certification Requirements), taking into account the requested TA. For example, if the Applicant does not currently make loans and therefore does not meet the Financing Entity requirement, it might describe how the TA funds will be used to hire a consultant to develop underwriting policies and procedures to support the Applicant's ability to start its lending activity.

2. Recurring Activities: An Applicant that requests a TA grant for recurring activities must clearly describe the benefit that would accrue to its capacity or to its Target Market(s) (such as plans for expansion of staff, market, or products) as a result of the TA award. If the Applicant is a prior Fund Awardee, it must describe how it has used the prior assistance and explain the need for additional Fund dollars over and above such prior assistance. The Fund will not provide funding for the same activities funded in prior awards.

D. Review and Selection Process

1. Eligibility and Completeness Review: The Fund will review each application to determine whether it is complete and the Applicant meets the eligibility requirements set forth above. An incomplete application does not meet eligibility requirements and will be rejected. Any application that does not meet eligibility requirements will not be returned to the Applicant.

2. Substantive Review: If an application is determined to be complete and the Applicant is determined to be eligible, the Fund will conduct the substantive review of the application in accordance with the criteria and procedures described in the Regulations, this NOFA and the application and guidance. As part of the review process, the Fund may contact the Applicant by telephone, email, mail, or through an on-site visit for the sole purpose of obtaining clarifying or confirming application information (such as statements of work, matching funds documentation, EINs, DUNS numbers, for example). After submitting its application, the Applicant will not be permitted to revise or modify its application in any way nor attempt to negotiate the terms of an award. If contacted for clarifying or confirming information, the Applicant must respond within the time parameters set by the Fund.

3. Application Scoring; Ranking:

(a) Application Scoring: The Fund will evaluate each application on a 100-point scale, comprising the five criteria categories described above, and assign numeric scores. An Applicant must receive a minimum score in each evaluation criteria in order to be considered for an award.

(i) Evaluating Prior Award Performance: In the case of an Applicant that has previously received funding from the Fund through any Fund program, the Fund will consider and will deduct points for: (i) The Applicant's noncompliance with any active award or award that terminated in Calendar Year 2008 in meeting its performance goals and measures, reporting deadlines and other requirements set forth in the assistance or award agreement(s) with the Fund during the Applicant's two complete fiscal years prior to the application deadline of this NOFA; (ii) the Applicant's failure to make timely loan payments to the Fund during the Applicant's two complete fiscal years prior to the application deadline of this NOFA (if applicable); (iii) performance on any prior Assistance Agreement as part of the overall assessment of the Applicant's ability to carry out its Comprehensive Business Plan; and (iv) funds deobligated from a FY 2005, FY 2006 or FY 2007 FA award (if the Applicant is applying for a FA award under this NOFA) if (A) the amount of deobligated funds is at least $200,000 and (B) the deobligation occurred subsequent to the expiration of the period of award funds availability (generally, any funds deobligated after the September 30th following the year in which the award was made). Any award deobligations that result in a point deduction under an application submitted pursuant to either funding round of this NOFA will not be counted against any future application for FA through the NACA Program. Furthermore, in the case of an Applicant that has previously received funding through any Fund program, the Fund will consider and may, in its discretion, deduct points for those Applicants that have in any proceeding instituted against the Applicant in, by or before any court, governmental or administrative body or agency received a final determination within the last three (3) years indicating that the Applicant has discriminated on the basis of race, color, national origin, disability, age, marital status, receipt of income from public assistance, religion, or sex.

(b) Ranking: The Fund then will rank the applications by their scores, from highest to lowest.

4. Award Selection: The Fund will make its final award selections based on the rank order of Applicants by their scores and the amount of funds available. In addition, the Fund may consider the institutional and geographic diversity of Applicants when making its funding decisions.

5. Insured CDFIs: In the case of Insured Depository Institutions and Insured Credit Unions, the Fund will take into consideration the views of the Appropriate Federal Banking Agencies; in the case of State-Insured Credit Unions, the Fund may consult with the appropriate State banking agencies (or comparable entity). The Fund will not approve a FA award or a TA grant to any Insured Credit Union (other than a State-Insured Credit Union) or Insured Depository Institution Applicant for which its Appropriate Federal Banking Agency indicates it has safety and soundness concerns, unless the Appropriate Federal Banking Agency asserts, in writing, that improvement in status is imminent and such improvement is expected to occur not later than September 30, 2009 or within such other time frame deemed acceptable by the Fund, or (ii) the safety and soundness condition of the Applicant is adequate to undertake the activities for which the Applicant has requested a FA award and the obligations of an Assistance Agreement related to such a FA award.

6. Award Notification: Each Applicant will be informed of the Fund's award decision either through a Notice of Award if selected for an award (see Notice of Award section, below) or written declination if not selected for an award. Each Applicant that is not selected for an award based on reasons other than completeness or eligibility issues will be provided a written debriefing on the strengths and weaknesses of its application. This feedback will be provided in a format and within a timeframe to be determined by the Fund, based on available resources. The Fund will notify Awardees by email using the addresses maintained in the Awardee's myCDFIFund account (postal mailings will be used only in rare cases).

7. The Fund reserves the right to reject an application if information (including administrative errors) comes to the attention of the Fund that either adversely affects an applicant's eligibility for an award, or adversely affects the Fund's evaluation or scoring of an application, or indicates fraud or mismanagement on the part of an Applicant. If the Fund determines that any portion of the application is incorrect in any material respect, the Fund reserves the right, in its sole discretion, to reject the application. The Fund reserves the right to change its eligibility and evaluation criteria and procedures, if the Fund deems it appropriate; if said changes materially affect the Fund's award decisions, the Fund will provide information regarding the changes through the Fund's Web site. There is no right to appeal the Fund's award decisions. The Fund's award decisions are final.

VI. Award Administration Information

A. Notice of Award

The Fund will signify its conditional selection of an Applicant as an Awardee by delivering a signed Notice of Award to the Applicant through its myCDFIFund account. The Notice of Award will contain the general terms and conditions underlying the Fund's provision of assistance including, but not limited to, the requirement that the Awardee and the Fund enter into an Assistance Agreement. The Applicant must execute the Notice of Award and return it to the Fund. By executing a Notice of Award, the Awardee agrees, among other things, that, if prior to entering into an Assistance Agreement with the Fund, information (including administrative error) comes to the attention of the Fund that either adversely affects the Awardee's eligibility for an award, or adversely affects the Fund's evaluation of the Awardee's application, or indicates fraud or mismanagement on the part of the Awardee, the Fund may, in its discretion and without advance notice to the Awardee, terminate the Notice of Award or take such other actions as it deems appropriate. Moreover, by executing a Notice of Award, the Awardee agrees that, if prior to entering into an Assistance Agreement with the Fund, the Fund determines that the Awardee or an Affiliate of the Awardee, is in default of any Assistance Agreement previously entered into with the Fund, the Fund may, in its discretion and without advance notice to the Awardee, either terminate the Notice of Award or take such other actions as it deems appropriate. The Fund reserves the right, in its sole discretion, to rescind its award if the Awardee fails to return the Notice of Award, signed by the authorized representative of the Awardee, along with any other requested documentation, within the deadline set by the Fund. For purposes of this section, the Fund will consider an Affiliate to mean any entity that meets the definition of Affiliate in the Regulations.

1. Failure to meet reporting requirements: If an Awardee, or an Affiliate of the Awardee is a prior Fund Awardee or allocatee under any Fund program and is not current on the reporting requirements set forth in the previously executed assistance, allocation or award agreement(s), as of the date of the Notice of Award, the Fund reserves the right, in its sole discretion, to delay entering into an Assistance Agreement until said prior Awardee or allocatee is current on the reporting requirements in any previously executed assistance, allocation or award agreement(s). Please note that the Fund only acknowledges the receipt of reports that are complete. As such, incomplete reports or reports that are deficient of required elements will not be recognized as having been received. If said prior Awardee or allocatee is unable to meet this requirement within the timeframe set by the Fund, the Fund reserves the right, in its sole discretion, to terminate and rescind the Notice of Award and the award made under this NOFA.

2. Pending resolution of noncompliance: If an Applicant is a prior Awardee or allocatee under any Fund program and if: (i) It has submitted complete and timely reports to the Fund that demonstrate noncompliance with a previous assistance, award or allocation agreement; and (ii) the Fund has yet to make a final determination as to whether the entity is in default of its previous assistance, award or allocation agreement, the Fund reserves the right, in its sole discretion, to delay entering into an Assistance Agreement, pending full resolution, in the sole determination of the Fund, of the noncompliance. Further, if an Affiliate of the Awardee is a prior Fund Awardee or allocatee and if such entity: (i) Has submitted complete and timely reports to the Fund that demonstrate noncompliance with a previous assistance, award or allocation agreement; and (ii) the Fund has yet to make a final determination as to whether the entity is in default of its previous assistance, award or allocation agreement, the Fund reserves the right, in its sole discretion, to delay entering into an Assistance Agreement, pending full resolution, in the sole determination of the Fund, of the noncompliance. If the prior Awardee or allocatee in question is unable to satisfactorily resolve the issues of noncompliance, in the sole determination of the Fund, the Fund reserves the right, in its sole discretion, to terminate and rescind the Notice of Award and the award made under this NOFA.

3. Default status: If, at any time prior to entering into an Assistance Agreement through this NOFA, the Fund has made a final determination that an Awardee that is a prior Fund Awardee or allocatee under any Fund program is in default of a previously executed assistance, allocation or award agreement(s), the Fund reserves the right, in its sole discretion, to delay entering into an Assistance Agreement, until said prior Awardee or allocatee has submitted a complete and timely report demonstrating full compliance with said agreement within a timeframe set by the Fund. Further, if at any time prior to entering into an Assistance Agreement through this NOFA, the Fund has made a final determination that an Affiliate of the Awardee is a prior Fund Awardee or allocatee under any Fund program and is in default of a previously executed assistance, allocation or award agreement(s), the Fund reserves the right, in its sole discretion, to delay entering into an Assistance Agreement, until said prior Awardee or allocatee has submitted a complete and timely report demonstrating full compliance with said agreement within a timeframe set by the Fund. If said prior Awardee or allocatee is unable to meet this requirement and the Fund has not specified in writing that the prior Awardee or allocatee is otherwise eligible to receive an Award under this NOFA, the Fund reserves the right, in its sole discretion, to terminate and rescind the Notice of Award and the award made under this NOFA.

4. Termination in default: If (i) Within the 12-month period prior to entering into an Assistance Agreement through this NOFA, the Fund has made a final determination that an Awardee that is a prior Fund Awardee or allocatee under any Fund program whose award or allocation was terminated in default of such prior agreement; and (ii) the final reporting period end date for the applicable terminated agreement falls within the 12-month period prior to the application deadline of this NOFA, the Fund reserves the right, in its sole discretion, to delay entering into an Assistance Agreement. Further, if (i) within the 12-month period prior to entering into an Assistance Agreement through this NOFA, the Fund has made a final determination that an Affiliate of the Awardee is a prior Fund Awardee or allocatee under any Fund program whose award or allocation was terminated in default of such prior agreement; and (ii) the final reporting period end date for the applicable terminated agreement falls within the 12-month period prior to the application deadline of this NOFA, the Fund reserves the right, in its sole discretion, to delay entering into an Assistance Agreement.

5. Deobligated awards: An Awardee that receives a FA award pursuant to this NOFA for which an amount over $200,000 is deobligated by the Fund subsequent to the expiration of the period of award funds availability (generally, any funds deobligated after the September 30th following the year in which the award was made) but within the 12 months prior to the application deadline, may not apply for a new award through the NOFA for another CDFI Fund program funding round after the date of said deobligation.

6. Compliance with Federal Anti-Discrimination Laws: If the Awardee has previously received funding through any Fund program, and if at any time prior to entering into an Assistance Agreement through this NOFA, the Fund is made aware of a final determination, made within the last three (3) years, in any proceeding instituted against the Awardee in, by or before any court, governmental or administrative body or agency, declaring that the Awardee has discriminated on the basis of race, color, national origin, disability, age, marital status, receipt of income from public assistance, religion, or sex, the Fund reserves the right, in its sole discretion, to terminate and rescind the Notice of Award and the award made under this NOFA.

B. Assistance Agreement

Each Applicant that is selected to receive an award under this NOFA must enter into an Assistance Agreement with the Fund in order to receive disbursement of award proceeds. The Assistance Agreement will set forth certain required terms and conditions of the award, which will include, but not be limited to: (i) The amount of the award; (ii) the type of award; (iii) the approved uses of the award; (iv) the approved eligible market to which the funded activity must be targeted; (v) performance goals and measures; and (vi) reporting requirements for all Awardees. FA-only, FA/TA, and TA-only Sponsoring Entity Assistance Agreements under this NOFA generally will have three-year performance periods; TA-only Assistance Agreements generally will have two-year performance periods.

The Fund reserves the right, in its sole discretion, to terminate the Notice of Award and rescind an award if the Awardee fails to return the Assistance Agreement, signed by the authorized representative of the Awardee, and/or provide the Fund with any other requested documentation, within the deadlines set by the Fund.

In addition to entering into an Assistance Agreement, each Awardee that receives an award either (i) in the form of a loan, equity investment, credit union shares/deposits, or secondary capital, in any amount, or (ii) a FA grant in an amount greater than $500,000, must furnish to the Fund an opinion from its legal counsel, the content of which will be specified in the Assistance Agreement, to include, among other matters, an opinion that the Awardee: (A) Is duly formed and in good standing in the jurisdiction in which it was formed and/or operates; (B) has the authority to enter into the Assistance Agreement and undertake the activities that are specified therein; and (C) has no pending or threatened litigation that would materially affect its ability to enter into and carry out the activities specified in the Assistance Agreement. Each other Awardee must provide the Fund with a good standing certificate (or equivalent documentation) from its state (or jurisdiction) of incorporation.

C. Reporting

1. Reporting requirements: The Fund will collect information, on at least an annual basis, from each Awardee including, but not limited to, an Annual Report that comprises the following components: (i) Financial Reports (including an OMB A-133 audit, as applicable; however Financial Reports are not required of Sponsoring Entities); (ii) Institution Level Report; (iii) Transaction Level Report (for Awardees receiving FA awards); (iv) Financial Status Report (for Awardees receiving TA grants); (v) Uses of Financial Assistance and Matching Funds Report (for Awardees receiving FA awards); (vi) Uses of Technical Assistance (for Awardees receiving TA grants); (vii) Explanation of Noncompliance (as applicable); and (viii) such other information as the Fund may require. Each Awardee is responsible for the timely and complete submission of the Annual Report, even if all or a portion of the documents actually is completed by another entity or signatory to the Assistance Agreement. If such other entities or signatories are required to provide Institution Level Reports, Transaction Level Reports, Financial Reports, or other documentation that the Fund may require, the Awardee is responsible for ensuring that the information is submitted timely and complete. The Fund reserves the right to contact such additional signatories to the Assistance Agreement and require that additional information and documentation be provided. The Fund will use such information to monitor each Awardee's compliance with the requirements set forth in the Assistance Agreement and to assess the impact of the NACA Program. All reports must be electronically submitted to the Fund via the Awardee's myCDFIFund account. The Institution Level Report and the Transaction Level Report must be submitted through the Fund's web-based data collection system, the Community Investment Impact System (CIIS). The Financial Report may be submitted through CIIS. All other components of the Annual Report may be submitted electronically, as directed, by the Fund. The Fund reserves the right, in its sole discretion, to modify these reporting requirements if it determines it to be appropriate and necessary; however, such reporting requirements will be modified only after notice to Awardees.

2. Accounting: The Fund will require each Awardee that receives FA and TA awards through this NOFA to account for and track the use of said FA and TA awards. This means that for every dollar of FA and TA awards received from the Fund, the Awardee will be required to inform the Fund of its uses. This will require Awardees to establish separate administrative and accounting controls, subject to the applicable OMB Circulars. The Fund will provide guidance to Awardees outlining the format and content of the information to be provided on an annual basis, outlining and describing how the funds were used. Each Awardee that receives an award must provide the Fund with the required complete and accurate Automated Clearinghouse (ACH) form for its bank account prior to award closing and disbursement.

VII. Agency Contacts

A. The Fund will respond to questions and provide support concerning this NOFA and the funding application between the hours of 9 a.m. and 5 p.m. ET, starting the date of the publication of this NOFA through the date that is two business days prior to the applicable application deadline. The Fund will not respond to questions or provide support concerning the application that are received after 5 p.m. ET on said dates, until after the respective funding application deadline. Applications and other information regarding the Fund and its programs may be obtained from the Fund's Web site at http://www.cdfifund.gov. The Fund will post on its Web site responses to questions of general applicability regarding the NACA Program.

B. The Fund's contact information is as follows:

Table 6—Contact Information
Type of question | Telephone number (not toll free) | Email addresses
Fax number for all offices: 202-622-7754
Information Technology/Technical Support | 202-622-2455 | ithelpdesk@cdfi.treas.gov.
CDFI Program/NI | 202-622-6355 | cdfihelp@cdfi.treas.gov.
CDFI Certification | 202-622-6355 | cdfihelp@cdfi.treas.gov.
Grants Management | 202-622-8226 | grantsmanagement@cdfi.treas.gov.
Compliance, Monitoring and Evaluation | 202-622-6330 | cme@cdfi.treas.gov.

C. Information Technology Support: People who have visual or mobility impairments that prevent them from creating a Target Market map using the Fund's Web site should call (202) 622-2455 for assistance (this is not a toll free number).

D. Legal Counsel Support: If you have any questions or matters that you believe require response by the Fund's Office of Legal Counsel, please refer to the document titled “How to Request a Legal Review,” found on the Fund's Web site at http://www.cdfifund.gov. Further, if you wish to review the Assistance Agreement form document from a prior funding round, you may find it posted on the Fund's Web site (please note that there may be revisions to the Assistance Agreement that will be used for Awardees under this NOFA and thus the sample document on the Fund's Web site is provided for illustrative purposes only and should not be relied on for purposes of this NOFA).

E. Communication with the CDFI Fund: The Fund will use the myCDFIFund Internet interface to correspond with Applicants and Awardees, using the contact information maintained in their respective myCDFIFund accounts. Therefore, the Applicant and any Subsidiaries, signatories, and Affiliates must maintain accurate contact information (including contact person and authorized representative, email addresses, fax numbers, phone numbers, and office addresses) in its myCDFIFund account(s). For more information about myCDFIFund (which includes information about the Fund's Community Investment Impact System), please see the Help documents posted at http://www.cdfifund.gov/ciis/AccessingCIIS.pdf.

VIII. Information Sessions and Outreach

The Fund may conduct webcasts or host information sessions for organizations that are considering applying to, or are interested in learning about, the Fund's programs. For further information, please visit the Fund's Web site at http://www.cdfifund.gov.

Authority: 12 U.S.C. 4703, 4703 note, 4704, 4706, 4707, 4717; 12 CFR part 1805.

Dated: September 24, 2008.
Donna J. Gambrell,
Director, Community Development Financial Institutions Fund.

[FR Doc. E8-23137 Filed 9-30-08; 8:45 am]

BILLING CODE 4810-70-P